DEPARTMENT OF DEFENSE

Department of the Navy

Privacy Act of 1974; System of Records

AGENCY: Department of the Navy, DoD.

ACTION: Notice to Delete Systems of Records.

SUMMARY: The Department of the Navy is deleting two system of records notices from its existing inventory of records systems subject to the Privacy Act of 1974, (5 U.S.C. 552a), as amended.

DATES: Effective March 7, 2007.

ADDRESSES: Department of the Navy, PA/FOIA Policy Branch, Chief of Naval Operations, (DNS-36), 2000 Navy Pentagon, Washington, DC 20350-2000.

FOR FURTHER INFORMATION CONTACT: Ms. Doris Lama at (202) 685-6545.

SUPPLEMENTARY INFORMATION: The Department of the Navy systems of records notices subject to the Privacy Act of 1974, (5 U.S.C. 552a), as amended, have been published in the Federal Register and are available from the address above.

The proposed deletions are not within the purview of subsection (r) of the Privacy Act of 1974, (5 U.S.C. 552a), as amended, which requires the submission of a new or altered system report.

Dated: February 28, 2007.
C.R. Choate,
Alternate OSD Federal Register Liaison Officer, Department of Defense.

Deletion:

N01070-4

Naval Reserve Security Group Personnel Records (February 22, 1993, 58 FR 10697).

Reason: System is obsolete. Information on reservists is maintained in their military personnel file, security clearance file, etc.

N04410-1

File of Records of Acquisition, Transfer and Disposal of Privately Owned Vehicles (September 20, 1993, 58 FR 48852).

Reason: Activity has been disestablished and all files destroyed.

[FR Doc. E7-4026 Filed 3-6-07; 8:45 am]

BILLING CODE 5001-06-P